DEPARTMENT OF DEFENSE

Office of the Secretary

Science and Technology Reinvention Laboratory Personnel Management Demonstration Project, Department of the Army, Army Research, Development and Engineering Command, Armament Research, Development and Engineering Center (ARDEC); Correction

AGENCY: Office of the Deputy Under Secretary of Defense (Civilian Personnel Policy) (DUSD (CPP)), Department of Defense (DoD).

ACTION: Notice of proposal to design and implement a personnel management demonstration project; correction.

SUMMARY: On September 9, 2010 (75 FR 55199), DoD published a notice concerning the proposed conversion of certain National Security Personnel System (NSPS)-covered employees to a personnel management demonstration project before the end of April 2011. The proposal pertains to NSPS-covered employees at the Army Research, Development and Engineering Command, Armament Research, Development and Engineering Center (ARDEC). Within that notice the descriptors for levels IV and V are incorrect under factor 1-1 and level VI was erroneously added to factor 2-3. This notice corrects those errors.

DATES: Written comments must be submitted on or before October 12, 2010 (see the September 9, 2010, notice for details).

FOR FURTHER INFORMATION CONTACT: ARDEC: Ms. Christina Duncan, U.S. Army ARDEC, Human Capital Management Office, Building 1, 3rd Floor, RDAR-EIH, Picatinny Arsenal, NJ 07806-5000.

DoD: Ms. Betty Duffield, CPMS-PSSC, Suite B-200, 1400 Key Boulevard, Arlington, VA 22209-5144.

SUPPLEMENTARY INFORMATION:

Corrections

In the notice published on September 9, 2010, in FR Doc. 2010-22280:

1. On pages 55225 and 55226, in the table under factor 1-1, the entries for descriptor Levels I, II, III, and VI are republished and the entries for descriptor Levels IV and V are corrected to read:

2. On page 55236, in the table under factor 2-3, the entry for descriptor Level VI is removed.

Dated: September 22, 2010.
Mitchell S. Bryman,
Alternate OSD Federal Register Liaison Officer, Department of Defense.

[FR Doc. 2010-24427 Filed 9-28-10; 8:45 am]

BILLING CODE 5001-06-P